DEPARTMENT OF HEALTH AND HUMAN SERVICES

Establishment of the Office of Climate Change and Health Equity

AGENCY: Office of the Assistant Secretary for Health, Office of the Secretary, Department of Health and Human Services.

ACTION: Notice.

Statement of Organization, Functions, and Delegations of Authority

Part A, Office of the Secretary, Statement of Organization, Function, and Delegation of Authority for the U.S. Department of Health and Human Services (HHS) is being amended at Chapter AC, Office of the Assistant Secretary for Health (OASH), as last amended at 75 FR 53304, dated August 31, 2010, and 72 FR 58095-96, dated October 12, 2007. Executive Order 14008, Tackling the Climate Crisis at Home and Abroad, section 222(d), directs the Secretary of Health and Human Services to establish an Office of Climate Change and Health Equity to address the impact of climate change on the health of the American people. This amendment reflects the establishment of an office to address the impact of climate change on the health of the American people and to empower individuals through information, data, and scientific approaches to pursue environmental justice. Specifically, this notice establishes the Office of Climate Change and Health Equity in the OASH. The changes are as follows:

A. Under Part A, Chapter AC, under the Office of the Assistant Secretary for Health, add the following:

1. The Office of Climate Change and Health Equity (OCCHE), is headed by a Director who reports to the Assistant Secretary for Health.

2. OCCHE shall work with the Immediate Office of the Secretary, Staff Divisions, and Operating Divisions to focus on:

—Identifying communities with disproportionate exposures to climate hazards and vulnerable populations.

—Addressing health disparities exacerbated by climate impacts to enhance community health resilience.

—Promoting and translating research on public health benefits of multi-sectoral climate actions.

—Supporting regulatory efforts to reduce greenhouse gas emissions and criteria air pollution throughout the health care sector, including participating suppliers and providers.

—Fostering innovation in climate adaptation and resilience for people and communities experiencing a disproportionate share of climate impacts and health inequities.

—Providing expertise and coordination to the White House and other Federal agencies related to climate change and health equity deliverables and activities, including executive order implementation, and reporting on health adaptation actions under the United Nations Framework Convention on Climate Change.

—Promoting training opportunities to build the climate and health workforce and empower communities.

—Exploring opportunities to partner with the philanthropic and private sectors to support innovative programming to address disparities and health sector transformation.

Delegations of Authority

Directives or orders made by the Secretary or the Assistant Secretary for Health, including all delegations and re-delegations of authority made to officials and employees of affected organizational components will continue in force pending further delegation, if allowed, provided they are consistent with this realignment.

Andrea Palm,
Deputy Secretary.

[FR Doc. 2021-18794 Filed 8-30-21; 8:45 am]

BILLING CODE 4150-03-P